INTERNATIONAL TRADE COMMISSION

[Investigation No. 731-TA-1733 (Final)]

Methylene Diphenyl Diisocyanate (MDI) From China; Revised Schedule for the Subject Proceeding

AGENCY: United States International Trade Commission.

ACTION: Notice.

DATES: December 9, 2025.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective September 16, 2025, the Commission established a schedule for the conduct of the subject proceeding (90 FR 46253, September 25, 2025). Due to the lapse in appropriations, ensuing cessation of Commission operations, and the additional tolling of 21 days by the Department of Commerce, the Commission is revising its schedule as follows: the prehearing staff report will be placed in the nonpublic record on March 19, 2026; the deadline for filing prehearing briefs is March 26, 2026; requests to appear at the hearing must be filed with the Secretary to the Commission on March 27, 2026; a prehearing conference will be held on March 30, 2026, if deemed necessary; parties shall file and serve written testimony and presentation slides in connection with their presentation at the hearing by no later than noon on April 1, 2026; the hearing will be held at the U.S. International Trade Commission Building at 9:30 a.m. on April 2, 2026; the deadline for filing posthearing briefs and for written statements from any person who has not entered an appearance as a party is April 9, 2026; the Commission will make its final release of information on April 27, 2026; and final party comments are due on April 29, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to section 207.21 of the Commission's rules.

By order of the Commission.
Issued: December 10, 2025.
Lisa Barton,
Secretary to the Commission.

[FR Doc. 2025-22745 Filed 12-12-25; 8:45 am]

BILLING CODE 7020-02-P